SMALL BUSINESS ADMINISTRATION

[Disaster Declaration # 10203 and # 10204]

Texas Disaster Number TX-00066

AGENCY: Small Business Administration.

ACTION: Amendment 2.

SUMMARY: This is an amendment of the Presidential declaration of a major disaster for the State of Texas (FEMA-1606-DR), dated September 24, 2005.

Incident: Hurricane Rita.

Incident Period: September 23, 2005, and continuing through October 14, 2005.

Effective Date: October 14, 2005.

Physical Loan Application Deadline Date: November 23, 2005.

EIDL Loan Application Deadline Date: June 26, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the President's major disaster declaration for the State of Texas, dated September 24, 2005, is hereby amended to establish the incident period for this disaster as beginning September 23, 2005, and continuing through October 14, 2005.

All other information in the original declaration remains unchanged.

(Catalog of Federal Domestic Assistance Numbers 59002 and 59008)

Herbert L. Mitchell,
Associate Administrator for Disaster Assistance.

[FR Doc. 05-21446 Filed 10-26-05; 8:45 am]

BILLING CODE 8025-01-P